DEPARTMENT OF EDUCATION

[CFDA No. 84.358A]

Small, Rural School Achievement Program

AGENCY: Office of Elementary and Secondary Education, Department of Education.

ACTION: Notice announcing application deadline.

SUMMARY: Under the Small, Rural School Achievement Program (SRSA) Program, we will award grants on a formula basis to eligible local educational agencies (LEAs) to address the unique needs of rural school districts. An LEA that is eligible for fiscal year (FY) 2003 SRSA funding and that applied last year for FY 2002 SRSA funding does not have to submit another SRSA application in order to receive its FY 2003 grant award. An LEA that is eligible for FY 2003 SRSA funding but did not apply last year for FY 2002 SRSA funding is required to submit a FY 2003 SRSA application in order to receive its FY 2003 SRSA grant award. In this notice, we establish the deadline for submission of the FY 2003 SRSA grant applications.

Application Deadline: July 23, 2003, 4:30 p.m. Eastern time. (Note: The e-application has been open since May 27, 2003).

SUPPLEMENTARY INFORMATION: An LEA is eligible for an award under the SRSA Program if—

(a) The total number of students in average daily attendance at all of the schools served by the LEA is fewer than 600; or each county in which a school served by the LEA is located has a total population density of fewer than 10 persons per square mile; and

(b) All of the schools served by the LEA are designated with a school locale code of 7 or 8 by the Department's National Center for Education Statistics; or the Secretary has determined, based on a demonstration by the LEA and concurrence of the SEA, that the LEA is located in an area defined as rural by a governmental agency of the State.

Under the regulations at 34 CFR 75.104(a), the Secretary makes grants only to an eligible party that submits an application. The Secretary wants to minimize the burden on small, rural school districts and does not believe that it is necessary for eligible LEAs that applied for FY 2002 SRSA funding to submit another application for FY 2003 funding. Instead of requiring new applications from these LEAs, the Department is including as a condition of their FY 2003 grant award a requirement that they comply with the assurances that they filed as part of their FY 2002 applications. Those eligible LEAs that did not apply for FY 2002 funding will have to submit a FY 2003 SRSA application in order to receive their FY 2003 SRSA grant award.

We have provided on the Department's Web site at http://www.ed.gov/offices/OESE/reap.html a list of LEAs eligible for FY 2003 funds. The Web site also indicates which of these eligible LEAs must submit an application to receive their FY 2003 SRSA grant award, and which eligible LEAs do not have to re-apply for SRSA funding for FY 2003. Eligible LEAs that must submit an application in order to receive FY 2003 SRSA funding must do so electronically by the deadline established in this notice.

Electronic Submission of Applications: Unless it is listed on the Department's Web site as not required to re-apply for an SRSA FY 2003 funding, an eligible LEA must submit an electronic application for FY 2003 SRSA funding by July 23, 2003, 4:30 pm Eastern time. Submission of an electronic application involves the use of the Electronic Grant Application System (e-APPLICATION) portion of the Grant Administration and Payment System (GAPS).

You can access the electronic application for the SRSA Program at: http://e-grants.ed.gov.

Once you access this site, you will receive specific instructions regarding the information to include in your application.

The regular hours of operation of the e-Grants Web site are 6 a.m. Monday until 7 p.m. Wednesday; and 6 a.m. Thursday until midnight, Saturday (Washington, DC time). Please note that the system is unavailable on Sundays, Federal holidays, and after 7 p.m. on Wednesday for maintenance (Washington, DC time).

Waiver of Proposed Rulemaking: It is the Secretary's practice, in accordance with the Administrative Procedure Act (APA) (5 U.S.C. 553) to offer interested parties the opportunity to comment on proposed rules. Ordinarily, this practice would have applied to the rules in this notice. However, section 437(d)(2) of the General Education Provisions Act (GEPA) exempts from this rulemaking requirement those rules where the Secretary determines it would cause extreme hardship to the intended beneficiaries of the program that would be affected. In accordance with section 437(d)(2) of the GEPA, the Secretary has decided to forgo public comment with respect to the rules in this notice in order to reduce burden on eligible rural LEAs to the extent possible.

For Further Information Contact: Ms. Milagros Lanauze. Telephone: (202) 401-0039 or via Internet: http.//reap@ed.gov.

If you use a telecommunications device for the deaf (TDD), you may call the Federal Information Relay Service (FIRS) at 1-800-877-8339.

Individuals with disabilities may obtain this notice in an alternative format (e.g., Braille, large print, audiotape, or computer diskette) on request to the contact person listed above.

Electronic Access to This Document: You may view this document, as well as other Department of Education documents published in the Federal Register in text or Adobe Portable Document Format (PDF) on the Internet at the following site: http://www.ed.gov/legislation/FedRegister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO access at: http://www.access.gpo.gov/nara/index.html.

Program Authority: Section 6212 of the ESEA, as amended by the No Child Left Behind Act of 2001 (Pub. L. 107-110).

Dated: July 7, 2003.
Eugene W. Hickok,
Under Secretary of Education.

[FR Doc. 03-17533 Filed 7-10-03; 8:45 am]

BILLING CODE 4000-01-P